DEPARTMENT OF DEFENSE

Department of the Air Force

Local Redevelopment Authority and Available Surplus Buildings and Land at Air Force Research Labs (AFRL) Mesa, Located in Maricopa County, AZ

SUMMARY: This notice provides information regarding the surplus property at AFRL Mesa in Maricopa County, Arizona and information about the local redevelopment authority that has been established to plan the reuse of the AFRL Mesa property. The property is located within the former Williams Air Force Base property adjacent to the Phoenix-Mesa-Gateway Airport and the Arizona State University Polytechnic Campus. The property is accessible from Sossaman Road south of Highway 60.

Point of Contact: For further information regarding the property contact Mr. Philip H. Mook, Senior Representative, Air Force Real Property Agency, 3411 Olson Street, McClellan, CA 95652-1003, telephone (916) 643-6420, ext 100, or Ms. Debra Bahr, Realty Specialist, Air Force Real Property Agency, 2261 Hughes Ave, Ste. 121, Lackland AFB, TX 78236, telephone (210) 395-9487.

SUPPLEMENTARY INFORMATION: This surplus property is available under the provisions of the Federal Property and Administrative Services Act of 1949 as amended (40 U.S.C. 501 et seq.) and the Defense Base Closure and Realignment Act of 1990 as amended (Pub. L. 101-510).

Notice of Surplus Property: Pursuant to paragraph (7)(B) of section 2905(b) of the Defense Base Closure and Realignment Act of 1990, as amended by the National Defense Authorization Act of 2005 (Pub. L. 108-375), the following information regarding the surplus property is described herein.

Local Redevelopment Authority: The local redevelopment authority for the AFRL Mesa property, Mesa, AZ for purposes of implementing the provisions of the Defense Base Closure and Realignment Act of 1990, as amended, as designated by the Office of Economic Adjustment is the City of Mesa. All inquiries should be addressed to Mr. Patrick Murphy, Project Manager for the City of Mesa Department of Economic Development, 20 E. Main Street, Suite 200, Mesa, AZ 85211-1466, telephone (480) 644-3964.

Surplus Property Description

Land: The property consists of approximately 8 acres of land.

Buildings/Structures: The property consists of 10 buildings with associated utility infrastructure.

Expressions of Interest: Pursuant to paragraph (7)(C) of Section 2905(b) of the Defense Base Closure and Realignment Act of 1990, as amended by the National Defense Authorization Act of 2005 (Pub. L. 108-375), state and local governments, representatives of the homeless, and other interested parties located in the vicinity of the AFRL Mesa property, Mesa, AZ, shall submit to the City of Mesa Department of Economic Development, P.O. Box 1466, Mesa, AZ 85211-1466, a notice of interest, of such governmental, representatives, and parties in the above described surplus property, or any portion thereof. A notice shall describe the need of the government, representative, or party concerned for the desired surplus property. Pursuant to paragraph (7)(C) of Section 2905(b), the City of Mesa Department of Economic Development shall assist interested parties in evaluating the surplus property for the intended use, and publish in a newspaper of general circulation within Arizona, the date by which expressions of interest must be submitted, which shall be no less than ninety (90) days from the date of publication of this notice.

Bao-Anh Trinh, YA-3,
Air Force Federal Register Liaison Officer.

[FR Doc. 2010-14183 Filed 6-11-10; 8:45 am]

BILLING CODE 5001-10-P